DEPARTMENT OF THE TREASURY

Office of Foreign Assets Control

31 CFR Chapter V

Publication of Iranian Transactions and Sanctions Regulations Web General License

AGENCY: Office of Foreign Assets Control, Treasury.

ACTION: Publication of a web general license.

SUMMARY: The Department of the Treasury's Office of Foreign Assets Control (OFAC) is publishing a general license (GL) issued in the Iran sanctions program: GL Q. This GL was previously made available on OFAC's website.

DATES: GL Q was issued on May 20, 2025. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov/.

Background

On May 20, 2025, OFAC issued GL Q to authorize certain transactions otherwise prohibited by Executive Order 13902 of January 10, 2020 (“Imposing Sanctions With Respect to Additional Sectors of Iran,” 85 FR 2003, January 14, 2020). GL Q was made available on OFAC's website (https://ofac.treasury.gov) when it was issued. The text of this GL is provided below.

OFFICE OF FOREIGN ASSETS CONTROL

Executive Order 13902 of January 10, 2020

Imposing Sanctions With Respect to Additional Sectors of Iran

GENERAL LICENSE Q

Authorizing Limited Safety, Environmental, and Sale Transactions Involving the Blocked Vessel M.V. Tinos I While Located in the United States

(a) Except as provided in paragraph (b) of this general license, all transactions prohibited by Executive Order (E.O.) 13902 involving the vessel M.V. Tinos I (IMO: 9969821) (Tinos I), Meisam Emamjomeh, or Pearl Petrochemical FZE, or any entity in which any of the foregoing owns, directly or indirectly, individually or in the aggregate, a 50 percent or greater interest, that are ordinarily incident and necessary to one or more of the following activities are authorized, provided that any payments to a blocked person must be made into a blocked interest-bearing account at a U.S. financial institution:

(1) The safe docking and anchoring of the Tinos I in port;

(2) The preservation of the health and safety of the crew of the Tinos I;

(3) Emergency repairs and environmental mitigation or protection activities related to the Tinos I;

(4) The provision of vessel management, bunkering, pilotage, towing, insurance, classification, flagging, registration, crewing, or port agency services for the Tinos I, as well as other services necessary to maintain normal vessel standards for the Tinos I; or

(5) The sale of the Tinos I, provided the net proceeds of the sale be placed into a blocked interest-bearing account at a U.S. financial institution.

Note to paragraph (a)(5). Transactions authorized by paragraph (a)(5) include: bidding on the purchase of the vessel; paying deposits; providing financing, insurance, or funding in connection with the purchase; and, in furtherance of the sale of the vessel, repairing or modifying the vessel for commercial use and hiring surveyors to inspect the vessel.

(b) This general license does not authorize:

(1) The entry into any new commercial contracts involving the property or interests in property of any blocked persons, including the blocked persons described in paragraph (a) of this general license, except as authorized by paragraph (a);

(2) Any transaction involving the Tinos I when the vessel is located outside of the United States, including its territorial sea;

(3) Any debit to a blocked account; or

(4) Any transactions otherwise prohibited by E.O. 13902 or any part of 31 CFR chapter V, other than transactions involving the blocked persons described in paragraph (a) of this general license, unless separately authorized.

Lisa M. Palluconi,

Acting Director, Office of Foreign Assets Control.

Dated: May 20, 2025.
Bradley T. Smith,
Director, Office of Foreign Assets Control.

Editorial Note: This document was received for publication by the Office of the Federal Register on September 8, 2025.

[FR Doc. 2025-17395 Filed 9-9-25; 8:45 am]

BILLING CODE 4810-AL-P